DEPARTMENT OF VETERANS AFFAIRS

[OMB Control No. 2900-0657]

Conflicting Interests Certification for Proprietary Schools Comment Request

AGENCY: Veterans Benefits Administration, Department of Veterans Affairs.

ACTION: Notice; correction.

SUMMARY: The Department of Veterans Affairs (VA) published a collection of information notice in a Federal Register on Wednesday, March 8, 2017 that contained an error. The intent was to publish a 60-day Public Comment notice.

However, the notice incorrectly stated an insert date 30 days after date of publication in the Federal Register in the DATES section. This document corrects the error by updating the public comment date.

FOR FURTHER INFORMATION CONTACT: Cynthia Harvey-Pryor, Enterprise Records Service (005R1B), Department of Veterans Affairs, 810 Vermont Avenue NW., Washington, DC 20420, at 202-461-5870.

CORRECTION

In FR Doc. FR Doc. 2017-04559, published on Wednesday, March 8, 2017 at 82FR44, make the following correction. On page 13056, in the third column, in second paragraph section, titled DATES, replace “DATES: Written comments and recommendations on the proposed collection of information should be received on or before April 7, 2017,” to read as follows:

DATES: Written comments and recommendations on the proposed collection of information should be received on or before May 7, 2017.

Dated: March 29, 2017.
By direction of the Secretary:
Cynthia Harvey-Pryor,
Department Clearance Officer, Enterprise Records Service, Office of Quality and Compliance, Department of Veterans Affairs.

[FR Doc. 2017-06572 Filed 4-3-17; 8:45 am]

BILLING CODE 8320-01-P